DEPARTMENT OF AGRICULTURE

Forest Service

Fishtrap EIS, Lolo National Forest, Sanders County, Montana

AGENCY: Forest Service, USDA.

ACTION: Notice; intent to prepare supplemental environmental impact statement.

SUMMARY: The Forest Service will prepare a supplemental environmental impact statement (EIS) for the Fishtrap project. The original Fishtrap Record of Decision, signed on November 22, 2005, was litigated in May 2006. The primary issue of the lawsuit was related to treatments intended to maintain and/or enhance old growth stands. As a result of a Court-ordered settlement agreement with Plaintiffs, the Lolo National Forest Supervisor agreed to: (a) Withdraw the project decision; (b) monitor past maintenance/restorative treatments within old growth stands and evaluate the effects of these activities; and (c) prepare a supplemental environmental impact statement (SEIS), incorporating this new information, before proceeding with the project. Over the last several months, Lolo National Forest personnel have been monitoring the effects of past maintenance/restorative treatments in old growth stands and are currently evaluating the information they collected. The Fishtrap SEIS will incorporate the results of this monitoring work.

The project proposes to implement timber harvest, pre-commercial thinning, prescribed burning, herbicide treatment of noxious weeds, temporary road construction, road improvement work, and road decommissioning in the Fishtrap Creek drainage, Lolo National Forest, Plains/Thompson Falls Ranger District, Sanders County, Montana.

FOR FURTHER INFORMATION CONTACT: Randy Hojem, District Ranger (406-826-4308), or Pat Partyka, Team Leader (406-826-4314), at the Plains/Thompson Falls Ranger District, Lolo National Forest, P.O. Box 429, Plains, Montana 59859.

SUPPLEMENTARY INFORMATION: The Fishtrap analysis area of approximately 36,400 acres is located approximately 20 air miles north of Thompson Falls, Montana, Sanders County, in T23N, R28W; T23N, R29W; T24N, R27W; T24N, R28W; T24N, R29W; and T25N, R28W; PMM. Within this area, the Lolo National Forest proposes: (1) Approximately 2260 acres of timber harvest; (2) approximately 437 acres of pre-commercial thinning; (3) approximately 984 acres of prescribed burning; (4) approximately 0.75 miles of temporary road construction to access two harvest units; (5) approximately 151 miles of road decommissioning; (6) approximately 36 miles of road reconstruction; (7) approximately 40 miles of road maintenance of existing roads that would be used for timber haul; (8) approximately 124 miles of herbicide treatment of noxious weeds along roadsides.

The Lolo National Forest Plan provides overall guidance for land management activities in the project area. The purposes for these actions are to: (1) Improve water quality, fish habitat and fish passage. (2) Improve grizzly bear habitat within the Cabinet-Yaak Grizzly Bear Recovery Zone. (3) Restore, maintain or enhance native “at risk” vegetative communities. (4) Provide for ecological sustainability and community stability through the use of forest products. (5) Improve and maintain big game winter range. (6) Provide for a transportation system that better reflects current access and resource concerns and reduces economic burdens associated with maintaining unneeded roads.

Issues currently identified for analysis in the SEIS include potential effects on old growth, soils, wildlife (particularly grizzly bear), water quality, fisheries, and forest access.

The Forest Service will consider a range of alternatives. A No Action alternative and other alternatives, which respond to significant issues, will be analyzed and compared to the Draft SEIS.

The Draft SEIS is expected to be filed with the Environmental Protection Agency (EPA) and available for public review in June 2007. Comments on the Draft SEIS will be considered and responded to in the Final SEIS, scheduled to be completed by October 2007.

The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Responsible Official: Deborah L.R. Austin, Forest Supervisor, Lolo National Forest, Building 24—Fort Missoula, Missoula, MT 59804, is the responsible official. In making the decision, the responsible official will consider comments, responses, disclosure of environmental consequences, and applicable laws, regulations, and policies. The responsible official will state the rationale for the chosen alternative in the Record of Decision.

Dated: November 21, 2006.
Deborah L.R. Austin,
Forest Supervisor.

[FR Doc. 06-9462 Filed 11-29-06; 8:45 am]

BILLING CODE 3410-11-M